DEPARTMENT OF HEALTH AND HUMAN SERVICES

Centers for Disease Control and Prevention

[60Day-03-62]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project

Data Collection, Management, Reporting, and Evaluation for the Minority AIDS Initiative (MAI)—New—Centers for Disease Control and Prevention (CDC). CDC is requesting OMB approval to collect data to assess the HIV prevention and capacity-building activities of community-based organizations (CBOs) and other not-for-profit organizations funded under the MAI. The essence of this initiative is to implement an approach to HIV Prevention for communities of color through three strategies: (1) Support of CBOs to deliver HIV prevention services; (2) community coalition development (CCD) projects to increase access to a linked network of HIV, STD, TB, and substance abuse services; and (3) capacity-building assistance (CBA) to sustain, improve, and expand HIV prevention services.

CDC requires MAI grantees to evaluate their programs. CDC has the responsibility to support these evaluation efforts by assisting grantees in the design and implementation of their program evaluation activities, including the provision of evaluation forms and conducting an overall evaluation of the MAI. The data collected during this evaluation will allow CDC to (1) Address accountability needs, (2) provide necessary information to the MAI grantees for improving their programs, and (3) provide a context for understanding the effectiveness of programs targeting African Americans and other racial and ethnic minorities.

Data collection will include self-administered questionnaires, which will be submitted quarterly, document reviews, and interviews with directors of community-based organizations, collaborating organizations, other community organizations, and community members served by these organizations. The first wave of data collection is planned for the summer of 2003. Subsequent waves of data collection are planned for 2004.

Total cost to respondents is their time to submit the requested data. The total burden in hours is estimated at 255.

Data collection forms | Number of respondents | Number of responses per respondent | Average burden response (in hours) | Total burden per response (in hours)
Community-Based Organization Questionnaire | 136 | 1 | 60/60 | 136
HIV Counseling, Testing, and Referral Questionnaire:
Part I | 54 | 1 | 10/60 | 9
Part II | 54 | 4 | 10/60 | 36
Capacity-Building Assistance Questionnaire:
Part I | 1 | 1 | 5/60 | .08
Part II | 16 | 1 | 10/60 | 3
Part III | 17 | 1 | 20/60 | 6
Part IV | 17 | 4 | 15/60 | 17
Community Coalition Development Questionnaire:
Part I | 16 | 1 per year | 60/60 | 16
Part II | 16 | 4 per year | 30/60 | 32
Total |  |  |  | 255

Dated: April 23, 2003.
Thomas A. Bartenfeld,
Acting Associate Director for Policy, Planning and Evaluation, Centers for Disease Control and Prevention (CDC).

[FR Doc. 03-10504 Filed 4-28-03; 8:45 am]

BILLING CODE 4163-18-P